INTERNATIONAL TRADE COMMISSION

[Investigation Nos. 701-TA-673-675 and 677 (Final)]

Steel Nails From India, Oman, Sri Lanka and Turkey

Determinations

On the basis of the record ¹ developed in the subject investigations, the United States International Trade Commission (“Commission”) determines, pursuant to the Tariff Act of 1930 (“the Act”), that an industry in the United States is not materially injured or threatened with material injury by reason of imports of steel nails from India, Oman, and Turkey, provided for in subheadings 7317.00.55, 7317.00.65, and 7317.00.75 of the Harmonized Tariff Schedule of the United States, that have been found by the U.S. Department of Commerce (“Commerce”) to be subsidized by the governments of India, Oman, and Turkey.² The Commission further finds that imports of steel nails from Sri Lanka that Commerce has determined are subsidized by the government of Sri Lanka are negligible and terminates that investigation.

¹ The record is defined in § 207.2(f) of the Commission's Rules of Practice and Procedure (19 CFR 207.2(f)).

² 87 FR 51333, August 22, 2022; 78 FR 51335, August 22, 2022; and 87 FR 51339, August 22, 2022.

Background

The Commission instituted these investigations effective December 30, 2021, following receipt of petitions filed with the Commission and Commerce by Mid Continent Steel & Wire, Inc., Poplar Bluff, Missouri. The Commission scheduled the final phase of the investigations following notification of preliminary determinations by Commerce that imports of steel nails from India, Oman, Sri Lanka, Thailand,³ and Turkey were being subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register of June 21, 2022 (87 FR 36882). In light of the restrictions on access to the Commission building due to the COVID-19 pandemic, the Commission conducted its hearing through written testimony and video conference on August 17, 2022. All persons who requested the opportunity were permitted to participate.

³ Commerce published notice in the Federal Register of a negative final determination of subsidies in connection with the investigation concerning steel nails from Thailand (87 FR 51343, August 22, 2022). Accordingly, effective August 22, 2022, the Commission terminated its countervailing duty investigation concerning steel nails from Thailand (87 FR 55036, September 8, 2022).

The Commission made these determinations pursuant to § 705(b) of the Act (19 U.S.C. 1671d(b)). It completed and filed its determinations in these investigations on October 6, 2022. The views of the Commission are contained in USITC Publication 5370 (October 2022), entitled Steel Nails from India, Oman, Sri Lanka, and Turkey: Investigation Nos. 701-TA-673-675 and 677 (Final).

By order of the Commission.
Issued: October 6, 2022.
Katherine Hiner,
Acting Secretary to the Commission.

[FR Doc. 2022-22148 Filed 10-11-22; 8:45 am]

BILLING CODE 7020-02-P